DEPARTMENT OF HOMELAND SECURITY

Coast Guard

46 CFR Part 125

[Docket No. USCG-2012-0208]

RIN 1625-AB62

Offshore Supply Vessels of at Least 6,000 GT ITC

AGENCY: Coast Guard, DHS.

ACTION: Interim rule; correction.

SUMMARY: The Coast Guard published an interim rule in the Federal Register on August 18, 2014, to ensure the safe carriage of oil, hazardous substances, and individuals in addition to the crew on U.S.-flagged OSVs of at least 6,000 gross tonnage as measured under the Convention Measurement System. In that interim rule, we revised a paragraph listing consensus standards incorporated by reference. In doing so, we inadvertently duplicated two paragraphs and presented others out of order. This correction resolves that error by removing the doubled paragraphs and reordering the others.

DATES: This correction is effective on October 17, 2014.

FOR FURTHER INFORMATION CONTACT: If you have questions on this final rule, call or email Justin Staples, Office of Standards Evaluation and Development, Coast Guard; telephone 202-372-1483, email Justin.L.Staples@uscg.mil. If you have questions on viewing material on the docket, call Cheryl Collins, Program Manager, Docket Operations, telephone 202-366-9826.

SUPPLEMENTARY INFORMATION: On August 18, 2014, the Coast Guard published an interim rule to ensure the safe carriage of oil, hazardous substances, and individuals in addition to the crew on U.S.-flagged OSVs of at least 6,000 gross tonnage as measured under the Convention Measurement System. 79 FR 48894.

In that rule, the Coast Guard revised 46 CFR 125.180 to include a number of new standards to be incorporated by reference. In the process, we inadvertently duplicated two paragraphs listing standards published by the National Fire Protection Association (NFPA). In addition, the standards had originally appeared in order of the year those particular editions of the standards were published. We intended to reorganize them by identification number instead, but left some of them out of order. This correction deletes the redundant paragraphs and correctly orders the remaining ones.

List of Subjects in 46 CFR Part 125

Administrative practice and procedure, Cargo vessels, Hazardous materials transportation, Incorporation by reference, Marine safety, Seamen.

For the reasons described in the preamble, 46 CFR part 125 is amended by making the following correcting amendment:

PART 125—GENERAL

1. The authority citation for part 125 continues to read as follows:

Authority: 46 U.S.C. 2103, 3306, 3307; 49 U.S.C. App. 1804; sec. 617, Pub. L. 111-281, 124 Stat. 2905; Department of Homeland Security Delegation No. 0170.1.

2. In § 125.180, revise paragraph (i) to read as follows:

§ 125.180 Incorporation by reference.

* * * * *

(i) National Fire Protection Association (NFPA), 1 Batterymarch Park, Quincy, MA 02269-9101, 617-770-3000, http://www.nfpa.org:

(1) NFPA 10—Standard for Portable Fire Extinguishers, 1994 Edition, IBR approved for § 132.350.

(2) NFPA 70—National Electrical Code, 1993 Edition, IBR approved for §§ 129.320, 129.340, and 129.370.

(3) NFPA 302—Fire Protection Standard for Pleasure and Commercial Motor Craft, 1994 Edition, IBR approved for § 129.550.

(4) NFPA 306—Control of Gas Hazards on Vessels, 1993 Edition, IBR approved for § 126.160.

(5) NFPA 1963—Fire Hose Connections, 1993 Edition, IBR approved for § 132.130.

* * * * *

K. Cervoni,
Chief, Office of Regulations and Administrative Law, U.S. Coast Guard.

[FR Doc. 2014-24716 Filed 10-16-14; 8:45 am]

BILLING CODE 9110-04-P